COMMISSION ON CIVIL RIGHTS

Agenda and Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA), that a roundtable meeting of the Connecticut Advisory Committee to the Commission will convene at 2:00 p.m. (EDT) on Monday, April 29, 2019, at the ACLU, 765 Asylum Avenue, Hartford, CT 06105. The purpose of the meeting is to review the advisory memorandum on prosecutorial practices and determine next steps for engaging legislators and the public about the Committee's work product.

DATES: Monday, April 29, 2019.

Time: 2:00 p.m. (EDT).

ADDRESSES: ACLU, 765 Asylum Avenue, Hartford, CT 06105.

FOR FURTHER INFORMATION CONTACT: Evelyn Bohor at ero@usccr.gov, or 303-866-1040.

SUPPLEMENTARY INFORMATION: To review the advisory memorandum on prosecutorial practices and determine next steps for engaging legislators and the public about the Committee's work product. If other persons who plan to attend the meeting require other accommodations, please contact Evelyn Bohor at ebohor@usccr.gov at the Eastern Regional Office at least ten (10) working days before the scheduled date of the meeting.

Persons interested in the issue are also invited to submit written comments; the comments must be received in the regional office by Wednesday, May 29, 2019. Written comments may be mailed to the Eastern Regional Office, U.S. Commission on Civil Rights, 1331 Pennsylvania Avenue, Suite 1150, Washington, DC 20425, faxed to (202) 376-7548, or emailed to Evelyn Bohor at ebohor@usccr.gov. Persons who desire additional information may contact the Eastern Regional Office at (202) 376-7533.

Records and documents discussed during the meeting will be available for public viewing as they become available at https://www.facadatabase.gov/FACA/FACAPublicViewCommitteeDetails?id=a10t0000001gzlqAAA, and clicking on the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda:

Monday, April 29, 2019; 2:00 p.m. (EDT)

I. Welcome and Roll Call

II. Discussion on Advisory Memorandum and Press Release

III. Decisions on Next Steps for Memorandum and Press Release

IV. Other Business

V. Open Comment

VI. Adjournment

Exceptional Circumstance: Pursuant to 41 CFR 102-3.150, the notice for this meeting is given less than 15 calendar days prior to the meeting because of the exceptional circumstances of the federal government shutdown.

Dated: April 24, 2019.
David Mussatt,
Supervisory Chief, Regional Programs Unit.

[FR Doc. 2019-08616 Filed 4-26-19; 8:45 am]

BILLING CODE P